Title 3—

The President

Proclamation 7506 of November 21, 2001

National Family Week, 2001

By the President of the United States of America

A Proclamation

American families are the bedrock of our society. They are the primary source of strength and health for both individuals and communities across our Nation. As we continue our recovery from the horrific acts committed by terrorists against the United States on September 11, our families provide us with a vital source of comfort and reassurance.

Americans grieve with those who suffered the loss of a family member in the brutal and cowardly terrorist attacks. The September 11 tragedy has allowed America to see firsthand the profound bonds of love that characterize the American family. Parents, children, spouses, and siblings mourned their lost loved ones, cared for the injured, and prayed for protection and health for all Americans. In the midst of great loss, we saw great love flowing from the hearts of America's families.

My Administration is committed to strengthening the American family. Many one-parent families are also a source of comfort and reassurance, yet a family with a mom and dad who are committed to marriage and devote themselves to their children helps provide children a sound foundation for success. Government can support families by promoting policies that help strengthen the institution of marriage and help parents rear their children in positive and healthy environments.

My proposed budget includes initiatives that encourage family cohesion. It provides over $60 million for grants that encourage responsible fatherhood. Grants would be awarded to groups that promote successful parenting and strong marriages and to faith-based and community organizations that help unemployed or low-income parents and their children avoid or leave welfare. This initiative will help spur new community-level approaches to aid low-income families.

To strengthen States' ability to promote child safety, stability, and well-being, my budget also proposes a substantial increase in funding for the Promoting Safe and Stable Families program. These additional resources will help States keep children with their biological families, when safe and appropriate, or place children with loving adoptive families. By undertaking more preventative efforts to help families in crisis, the prospects for children to live in a permanent home are enhanced.

As we observe National Family Week, we must work to strengthen families in America as individuals and through Government and community-based organizations. This week serves to remind us of the values, security, and love that we give and receive in our families.

NOW, THEREFORE, I, GEORGE W. BUSH, President of the United States of America, by virtue of the authority vested in me by the Constitution and laws of the United States, do hereby proclaim November 18 through November 24, 2001, as National Family Week. I invite the States, communities, and people of the United States to join together in observing this day with appropriate ceremonies and activities to honor our Nation's families.

IN WITNESS WHEREOF, I have hereunto set my hand this twenty-first day of November, in the year of our Lord two thousand one, and of the Independence of the United States of America the two hundred and twenty-sixth.

B

[FR Doc. 01-29809

Filed 11-28-01; 8:45 am]

Billing code 3195-01-P